DEPARTMENT OF LABOR

Employment and Training Administration

[TA-W-59,778]

Honeywell Automation and Control Systems, Golden Valley, MN; Notice of Termination of Investigation

Pursuant to section 221 of the Trade Act of 1974, as amended, an investigation was initiated on July 25, 2006 in response to a petition filed by a state agency representative on behalf of workers at Honeywell Automation and Control Systems.

The petitioner has requested that the petition be withdrawn. Consequently, the investigation has been terminated.

Signed in Washington, DC, this 4th day of August 2006.
Linda G. Poole,
Certifying Officer, Division of Trade Adjustment Assistance.

[FR Doc. E6-14162 Filed 8-24-06; 8:45 am]

BILLING CODE 4510-30-P